DEPARTMENT OF COMMERCE

National Oceanic and Atmospheric Administration

[RTID 0648-XE906]

Endangered Species; File No. 28678

AGENCY: National Marine Fisheries Service (NMFS), National Oceanic and Atmospheric Administration (NOAA), Commerce.

ACTION: Notice; receipt of application.

SUMMARY: Notice is hereby given that Mariana Fuentes, Ph.D., Florida State University, 3263 Foley Drive, Tallahassee, FL 32309, has applied in due form for a permit to take green (Chelonia mydas), Kemp's ridley (Lepidochelys kempii), hawksbill (Eretmochelys imbricata), and loggerhead (Caretta caretta) sea turtles for purposes of scientific research.

DATES: Written comments must be received on or before July 28, 2025.

ADDRESSES: The application and related documents are available for review by selecting “Records Open for Public Comment” from the “Features” box on the Applications and Permits for Protected Species home page, https://apps.nmfs.noaa.gov, and then selecting File No. 28678 from the list of available applications. These documents are also available upon written request via email to NMFS.Pr1Comments@noaa.gov.

Written comments on this application should be submitted via email to NMFS.Pr1Comments@noaa.gov. Please include File No. 28678 in the subject line of the email comment.

Those individuals requesting a public hearing should submit a written request via email to NMFS.Pr1Comments@noaa.gov. The request should set forth the specific reasons why a hearing on this application would be appropriate.

FOR FURTHER INFORMATION CONTACT: Erin Markin, Ph.D., or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to continue research and monitoring to study the spatiotemporal distribution, composition, foraging patterns, habitat use, movement, species segregation, and threats to sea turtles along the Gulf coast of Florida. Researchers would capture up to 232 green, 10 hawksbill, 115 Kemp's ridley, and 150 loggerhead sea turtles by hand, dip net, or strike net, annually. Researchers would perform the following procedures on sea turtles prior to their release: mark (temporary carapace, flipper tag, and passive integrated transponder tag), biologically sample (blood, scute, and skin), measure, weigh, photograph, and video. A subset of green, Kemp's ridley, and loggerhead sea turtles may receive one instrument attachment at a time. The permit is requested for 10 years.

Dated: June 24, 2025.
Shannon Bettridge,
Chief, Marine Mammal and Sea Turtle Conservation Division, Office of Protected Resources, National Marine Fisheries Service.

[FR Doc. 2025-11892 Filed 6-26-25; 8:45 am]

BILLING CODE 3510-22-P